RAILROAD RETIREMENT BOARD

Sunshine Act

Notification of Item Added to the Agenda, U.S. Railroad Retirement Board

On October 9, 2009, by recorded vote the Board has voted to add the following item to its agenda for the October 14, 2009:

(2) Employer Status Determination (Decision on Reconsideration)—Trinity Railway Express—Train Dispatching—Herzog Transit Services, Inc.

The person to contact for more information is Beatrice Ezerski, Secretary to the Board, Phone No. 312-751-4920.

Dated: October 9, 2009.
Beatrice Ezerski,
Secretary to the Board.

[FR Doc. E9-24904 Filed 10-13-09; 11:15 am]

BILLING CODE 7905-01-P